DEPARTMENT OF LABOR

Employment and Training Administration

[TA-W-72,912]

Rexam Closure Systems, Inc., a Subsidiary of Rexam PLC, Including On-Site Leased Workers From Addeco Employment Services and Olston Staffing, Including Workers Whose Unemployment Insurance (UI) Wages Are Paid Through Owens Illinois Manufacturing, Hamlet, NC; Amended Certification Regarding Eligibility To Apply for Worker Adjustment Assistance

In accordance with Section 223 of the Trade Act of 1974, as amended (“Act”), 19 U.S.C. 2273, the Department of Labor issued a Certification of Eligibility to apply for Worker Adjustment Assistance on March 15, 2010, applicable to the workers of Rexam Closure Systems, Inc., a subsidiary of Rexam PLC, Hamlet, North Carolina. The notice was published in the Federal Register on April 23, 2010 (75 FR 21357). The notice was amended on May 11, 2010 to included workers whose Unemployment Insurance (UI) wages are paid through Owens Illinois Manufacturing. The notice was published in the Federal Register on May 21, 2010 (75 FR 28655).

At the request of a company official, the Department reviewed the certification for workers of the subject firm. The workers were engaged in activities related to the production of plastic closures.

New findings show that workers leased from Olston Staffing were employed on-site at the Hamlet, North Carolina location of Rexam Closure Systems, Inc., a subsidiary of Rexam PLC. The Department has determined that these workers were sufficiently under the control of Rexam Closure Systems, Inc. to be considered leased workers.

Based on these findings, the Department is amending this certification to include workers leased from Olston Staffing working on-site at the Hamlet, North Carolina location of the subject firm.

The intent of the Department's certification is to include all workers of Rexam Closure Systems, Inc. who were adversely affected as a secondary component supplier of plastic closures to a TAA certified firm.

The amended notice applicable to TA-W-72,912 is hereby issued as follows:

All workers of Rexam Closure Systems, Inc., a subsidiary of Rexam PLC, including on-site leased workers from Addeco Employment Services and Olston Staffing, and including workers whose UI wages are paid through Owens Illinois Manufacturing, Hamlet, North Carolina, who became totally or partially separated from employment on or after November 10, 2008, through March 15, 2012, and all workers in the group threatened with total or partial separation from employment on the date of certification through two years from the date of certification, are eligible to apply for adjustment assistance under Chapter 2 of Title II of the Trade Act of 1974, as amended.

Signed in Washington, DC, this 3rd day of June, 2010.
Michael W. Jaffe,
Certifying Officer, Division of Trade Adjustment Assistance.

[FR Doc. 2010-14457 Filed 6-15-10; 8:45 am]

BILLING CODE 4510-FN-P